DEPARTMENT OF HEALTH AND HUMAN SERVICES

National Institutes of Health

Office of The Director, National Institutes of Health; Cancellation of Meeting

Notice is hereby given of the cancellation of the Office of The Director, National Institutes of Health, October 9, 2020, 3:00 p.m. to October 9, 2020, 4:00 p.m., National Institutes of Health, Building One, One Center Drive, Bethesda, MD 20892 which was published in the Federal Register on August 26, 2020, 85 FR 52614.

This meeting is being cancelled due to scheduling difficulties and the presentation will be rescheduled for the ACD in December 2020.

Dated: September 21, 2020.
Natasha M. Copeland,
Deputy Director, Office of Federal Advisory Committee Policy.

[FR Doc. 2020-21118 Filed 9-23-20; 8:45 am]

BILLING CODE 4140-01-P